FEDERAL HOUSING FINANCE BOARD

Sunshine Act Notice

FEDERAL REGISTER CITATION OF PREVIOUS NOTICE: 65 FR 14977, March 20, 2000.

PREVIOUSLY ANNOUNCED TIME AND DATE OF THE MEETING: 1 P.M., Wednesday, March 22, 2000.

CHANGE IN THE MEETING. The time and location of the above mentioned meeting was changed to 2:30 p.m., Wednesday, March 22, 2000 and held at 2222 Rayburn House Office Building, Independence Avenue and South Capitol Street, SW, Washington, DC 20515.

CONTACT PERSON FOR MORE INFORMATION: Elaine L. Baker, Secretary to the Board, (202) 408-2837.

Bruce A. Morrison,
Chairman.

[FR Doc. 00-7770 Filed 3-24-00; 4 pm]

BILLING CODE 6725-01-P